U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC, on May 4, 2023 on “Rule by Law: China's Increasing Legal Reach.”

DATES: The hearing is scheduled for Thursday, May 4, 2023 at 9:30 a.m.

ADDRESSES: Members of the public will be able to attend in person at TBD or view a live webcast via the Commission's website at www.uscc.gov. Visit the Commission's website for any further instructions or changes to the status of public access to Capitol grounds. Reservations are not required to view the hearing online or in person.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the fifth public hearing the Commission will hold during its 2023 report cycle. The hearing will start with an examination of how the Chinese Communist Party views law and its ambitions to promote those views internationally. Next, the hearing will assess China's subversion of international laws and norms and violation of its treaty obligations and the consequences in various domains of international law through case studies. Finally, the hearing will consider how the U.S. court system treats the interpretation of Chinese law and enforcement of Chinese judgements, as well as the Chinese court systems attempts to influence and prevent parallel litigation in other jurisdictions.

The hearing will be co-chaired by Senator Carte Goodwin and Commissioner Jacob Helberg. Any interested party may file a written statement by May 4, 2023 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: April 14, 2023.
W. Peck,
Executive Director, U.S.-China Economic and Security Review Commission.

[FR Doc. 2023-08291 Filed 4-19-23; 8:45 am]

BILLING CODE 1137-00-P